ELECTION ASSISTANCE COMMISSION

Sunshine Act Meetings

AGENCY: Election Assistance Commission.

ACTION: Sunshine Act notice; notice of public meeting agenda.

SUMMARY: Public Meeting: U.S. Election Assistance Commission. This meeting will be open to the public.

DATES: September 26, 2024, 1:00 p.m. EST.

ADDRESSES: The Election Assistance Commission hearing room at 633 3rd St. NW, Washington, DC 20001. The meeting is open to the public and will be live streamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting “Working Together: Supporting the 2024 Elections through Federal Partnerships.”

Agenda: A little over a month from Election Day, the EAC will host a public meeting with representatives from federal election partners to discuss their roles in elections, their work throughout 2024 to support state and local election officials, and the security of elections. Panelists will give remarks and respond to questions from the EAC Commissioners.

The EAC will accept written comments and questions from members of the public. If you would like to participate, please email clearinghouse@eac.gov with your full name and question or comment no later than 12:00 p.m. E.T. on September 25, 2024.

The full agenda will be posted in advance on the events page of the EAC website: www.eac.gov/events/2024/09/26/working-together-supporting-2024-elections-through-federal-partnerships.

Background: Through the Help America Vote Act of 2002 (HAVA), the EAC is tasked with maintaining a clearinghouse of election administration information. To fulfill this mission, the EAC provides best practices recommendations, training materials, and other resources for election officials. This meeting will provide information on emerging topics for the upcoming election to help inform the general public and members of the media.

Camden Kelliher,
Acting General Counsel, U.S. Election Assistance Commission.

[FR Doc. 2024-20660 Filed 9-9-24; 4:15 pm]

BILLING CODE 4810-71-P